DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory. The Federal Advisory Committee Act (Pub. L. 92-463, 86 Stat. 770) requires that public notice of these meeting be announced in the Federal Register.

DATES: Tuesday, January 21, 2003, 8 a.m.-6 p.m.

Wednesday, January 22, 2003, 8 a.m.-5 p.m.

Public participation sessions will be held on:

Tuesday, January 21, 2003, 12:15-12:30 p.m, 5:45-6 p.m.

Wednesday, January 22, 2003, 11:45-12 noon, 4 p.m.-4:15 p.m.

These times are subject to change as the meeting progresses. Please check with the meeting facilitator to confirm these times.

ADDRESSES: West Coast Hotel in the Teton/Bonneville Rooms, 475 River Parkway, Idaho Falls, Idaho 83402.

FOR FURTHER INFORMATION CONTACT: Ms. Wendy Lowe, Idaho National Engineering and Environmental Laboratory (INEEL) Citizens' Advisory Board (CAB) Facilitator, Jason Associates Corporation, 545 Shoup Avenue, Suite 335B, Idaho Falls, ID 83402, Phone (208) 522-1662 or visit the Board's Internet Home page at http://www.ida.net/users/cab.

SUPPLEMENTARY INFORMATION: Purpose of the Board: The purpose of the Board is to make recommendations to DOE and its regulators in the areas of future use, cleanup levels, waste disposition and cleanup priorities at the INEEL.

Tentative Agenda Topics: (Agenda topics may change up to the day of the meeting. Please contact Jason Associates for the most current agenda or visit the CAB's Internet site at http://www.ida.net/users/cab/.)

• Potential new missions under the Idaho National Engineering and Environmental Laboratory (INEEL)'s new Nuclear Energy mission.

• The status of cleanup at Waste Area Group 7, including the Revised Work Plan and the major findings of the Remedial Investigation and the Baseline Risk Assessment.

• The status of the INEEL Environmental Management Program and implementation of the Performance Management Plan for Accelerating Cleanup at the INEEL.

• The waste acceptance criteria for the Waste Isolation Pilot Plant, (including criteria for remote-handled transuranic waste) that need to be changed to receive INEEL waste.

• The Record of Decision for the High-Level Waste and Facilities Disposition Environmental Impact Statement.

• The Public Involvement Plan to support the phased Record of Decision for the High-Level Waste and Facilities Disposition Environmental Impact Statement.

• DOE's efforts to address “problematic wastes” for which there is no clear treatment and disposal path.

• Board member reactions and concerns related to the V-Tank contents treatment and disposal options.

• Lessons learned from the 3,100 cubic meter project.

• Transuranic Waste Performance Management Plan.

Public Participation: This meeting is open to the public. Written statements may be filed with the Board facilitator either before or after the meeting. Individuals who wish to make oral presentations pertaining to agenda items should contact the Board Chair at the address or tele-phone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Penny Pink, INEEL CAB Administrator, North Wind Environmental, Inc., PO Box 51174, Idaho Falls, ID 83405 or by calling (208) 528-8718.

Issued at Washington, DC, on December 31, 2002.
Rachel Samuel,
Deputy Advisory Committee Management Officer.

[FR Doc. 03-381 Filed 1-8-03; 8:45 am]

BILLING CODE 6450-01-P